FEDERAL COMMUNICATIONS COMMISSION

47 CFR Part 73

[DA 05-29, MB Docket No.05-5, RM-11139]

Radio Broadcasting Services; Morro Bay and Oceano, CA

AGENCY: Federal Communications Commission.

ACTION: Proposed rule.

SUMMARY: This document seeks comment on a petition for rulemaking filed by Lazer Broadcasting Corporation, licensee of Station KLMM (FM), Morro Bay, California, proposing the reallotment of Channel 231A from Morro Bay to Oceano, California, as the community's first local transmission service, and the modification of the license for Station KLMM (FM) to reflect the new community. Channel 231A has been proposed to be reallotted at Oceano at a site 12.4 kilometers (7.7 miles) south of the community at coordinates 34-59-20 NL and 120-37-56 WL.

DATES: Comments or counterproposals must be filed on or before March 3, 2005, and reply comments on or before March 18, 2005.

ADDRESSES: Secretary, Federal Communications Commission, 445 12th Street, SW., Room TW-A325, Washington, DC 20554. In addition to filing comments with the FCC, interested parties should serve the petitioner's counsel, as follows: Harry C. Martin, Esq., Anne Goodwin Crump, Esq., Fletcher, Heald and Hildreth, PLC, 1300 North 17th Street, Eleventh Floor, Arlington, VA 22209.

FOR FURTHER INFORMATION CONTACT: Victoria M. McCauley, Media Bureau, (202) 418-2180.

SUPPLEMENTARY INFORMATION: This is a summary of the Commission's Notice of Proposed Rulemaking, MB Docket No. 05-5, adopted January 5, 2005, and released January 10, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 800-378-3160 or http://www.BCPIWEB.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under California, is amended by removing Channel 231A at Morro Bay and adding Oceano, Channel 231A.

Federal Communications Commission.
John A. Karousos,
Assistant Chief, Audio Division, Media Bureau.

[FR Doc. 05-1356 Filed 1-25-05; 8:45 am]

BILLING CODE 6712-01-P